FEDERAL COMMUNICATIONS COMMISSION

47 CFR Part 73

[MB Docket No. 21-49; RM-11874; DA 21-158; FR ID 17557]

Television Broadcasting Services; Augusta, Georgia

AGENCY: Federal Communications Commission.

ACTION: Proposed rule; correction.

SUMMARY: The Federal Communications Commission published a document in the Federal Register of March 8, 2021, concerning a petition for rulemaking filed by Gray Television Licensee, LLC (Gray) requesting the substitution of channel 27 for channel 12 at Augusta, Georgia in the DTV Table of Allotments. The document contained the incorrect address for counsel of petitioner.

FOR FURTHER INFORMATION CONTACT: Andrew Manley, Andrew.Manley@fcc.gov, Media Bureau, (202) 418-0596.

Correction

In the Federal Register of March 8, 2021, in FR Vol. 86, No. 43, on page 13278, in the second column, correct the ADDRESSES caption to read:

ADDRESSES: Federal Communications Commission, Office of the Secretary, 45 L Street NE, Washington, DC 20554. In addition to filing comments with the FCC, interested parties should serve counsel for petitioner as follows: Joan Stewart, Esq., Wiley Rein LLP, 1776 K Street NW, Washington, DC 20006.

Dated: March 9, 2021.
Thomas Horan,
Chief of Staff, Media Bureau.

[FR Doc. 2021-05394 Filed 3-15-21; 8:45 am]

BILLING CODE 6712-01-P